ENVIRONMENTAL PROTECTION AGENCY

[EPA-HQ-OPP-2015-0774; FRL-9944-31]

2-(Decylthio) Ethanamine Hydrochloride, Aliphatic Alcohols C1-C5, Bentazon, Propoxur, Propoxycarbazone-sodium, Sodium Acifluorfen, Thidiazuron; Registration Review Proposed Interim Decisions; Notice of Availability

AGENCY: Environmental Protection Agency (EPA).

ACTION: Notice.

SUMMARY: This notice announces the availability of EPA's proposed interim registration review and opens a public comment period on the proposed interim decisions. Registration review is EPA's periodic review of pesticide registrations to ensure that each pesticide continues to satisfy the statutory standard for registration, that is, that the pesticide can perform its intended function without unreasonable adverse effects on human health or the environment. Through this program, EPA is ensuring that each pesticide's registration is based on current scientific and other knowledge, including its effects on human health and the environment.

DATES: Comments must be received on or before June 20, 2016.

ADDRESSES: Submit your comments, identified by the docket identification (ID) number for the specific pesticide of interest provided in the Table in Unit II., by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For pesticide specific information, contact: The Chemical Review Manager for the pesticide of interest identified in the Table in Unit II.

For general information on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager for the pesticide of interest identified in the Table in Unit II.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

Pursuant to 40 CFR 155.58, this notice announces the availability of EPA's proposed interim registration review decisions for the pesticides shown in the Table in this unit and opens a 60-day public comment period on the proposed interim decisions.

Table—Registration Review Proposed Interim Decisions
Registration review case name and No. | Pesticide Docket ID No. | Chemical review manager, telephone number, email address
2-(Decylthio)ethanamine hydrochloride (DTEA-HCl) (Case 5029) | EPA-HQ-OPP-2009-0336 | Sanyvette Williams, williams.sanyvette@epa.gov, (703) 305-7702.
Aliphatic Alcohols, C1-C5 (Case 4003) | EPA-HQ-OPP-2012-0340 | Sanyvette Williams, williams.sanyvette@epa.gov, (703) 305-7702.
Bentazon (Case 0182) | EPA-HQ-OPP-2010-0117 | Moana Appleyard, appleyard.moana@epa.gov, (703) 308-8175.
Propoxur (Case 2555) | EPA-HQ-OPP-2009-0806 | Brittany Pruitt, pruitt.brittany@epa.gov, (703) 347-0289.
Propoxycarbazone-sodium (Case 7264) | EPA-HQ-OPP-2015-0095 | Marianne Mannix, mannix.marianne@epa.gov, (703) 347-0275.
Sodium Acifluorfen (Case 2605) | EPA-HQ-OPP-2010-0135 | Nathan Sell, sell.nathan@epa.gov, (703) 347-8020.
Thidiazuron (Case 4092) | EPA-HQ-OPP-2015-0381 | Khue Nguyen, nguyen.khue@epa.gov, (703) 347-0248.

DTEA HCl is a biocide registered for use in cooling water systems to control bacterial, fungal, and algal slimes. An ecological risk assessment identified potential ecological risks to aquatic organisms. To address these potential risks, EPA is proposing label language changes to reduce discharge into bodies of water, limit use frequency and location, and reduce certain use rates. A final decision will be made after Endangered Species Act (ESA) and Endocrine Disruptor Screening Program (EDSP) determinations have been made.

The aliphatic alcohols, C1-C5 case contains two active ingredients, ethanol and isopropyl alcohol, which are registered for use as sanitizers, disinfectants and bactericides on agricultural premises and equipment, medical premises and equipment, industrial areas, residential and public access areas, in antifouling paints for boats, and as a plant growth regulator. The Agency has concluded that there are no human or ecological risk concerns associated with the pesticidal uses of aliphatic alcohols, C1-C5 based on use patterns and chemical characteristics. Additionally, no additional data are required in support of this registration review case, and a “no effect” determination has been made for endangered species and designated critical habitat for such species. A final decision will be made after the EDSP determination has been made.

Bentazon is a selective, contact, early post-emergence herbicide registered to control broadleaf weeds and sedges in numerous agricultural field crops, including corn, soybeans, beans, rice, cereals, and potatoes, and for use in and around trees and vines of various fruit and nut crops. Bentazon is also registered for use to control weeds in residential and recreational lawns and around ornamental plants. EPA published draft registration review human health and ecological risk assessments in 2014. The Agency has concluded that bentazon does not pose human health risks of concern. The ecological risk assessment concluded that there are risks of concern for terrestrial and semi-aquatic plants and acute risks for some birds and mammals. The Agency is proposing that bentazon labels include drift and herbicide resistance management language and increased spray droplet sizes, and allow one application annually except under specific circumstances to reduce risks to non-target plants and wildlife. This proposed interim decision does not include a finding under the EDSP, nor does it contain a complete ESA or pollinator component for bentazon.

The registration review docket for propoxur opened in December 2009. Propoxur is an N-methyl residual carbamate insecticide registered for use to control ticks, fleas, and a variety of insects in-and-around industrial, commercial, and residential facilities. EPA published draft registration review human health and ecological risk assessments in July 2015. For the human health assessment, the Agency concluded that propoxur posed risks of concern from dietary and residential post application exposure. A voluntary final cancellation order was issued for the following uses, which fully mitigated the human health risks of concerns: All indoor aerosol, spray, and liquid formulations; use in food handling establishments; and indoor crack and crevice uses were cancelled effective September 22, 2015. The draft ecological risk assessment initially concluded that there were no risks of concern to non-listed species nor to listed species, except for listed aquatic invertebrates from outdoor spot treatment use made near aquatic water bodies. However, additional information on the use of propoxur outdoor spot treatments support that this use is not likely to result in quantities of active ingredient that would result in potential effects to listed aquatic species. Therefore, the draft propoxur ecological risk assessment has been amended to reflect this use information and is posted to the propoxur docket at this time. The amended ecological risk assessment indicates that there is no reasonable expectation for any registered use of propoxur to cause direct or indirect adverse effects to threatened and endangered species. A “no effect” determination was made for all federally listed species and designated critical habitat. Propoxur has not been evaluated under the EDSP. Therefore, the Agency's final registration review decision is dependent upon the result of the evaluation of potential endocrine disruptor risk. In addition, a pollinator risk assessment will not be required for propoxur due to negligible exposure pathways to terrestrial invertebrates (honeybees). Pending the EDSP determination action, EPA is planning to issue an interim registration review decision for propoxur.

Propoxycarbazone-sodium is an herbicide that controls post-emergent grasses and broadleaf weeds including cheat grass, downy brome, jointed goatgrass, pigweed, wild oat, and mustard in wheat and triticale. EPA conducted a comprehensive human health risk assessment which indicated that there are no risks of concern for human health. The ecological risk assessment indicated that there are potential risks of concern for non-target terrestrial plant species from all uses of propoxycarbazone sodium, which is consistent with the herbicidal mode of action. To reduce risk to non-target terrestrial plants, the Agency is proposing several spray drift reduction measures. The Agency is also proposing herbicide resistance management language to be included on all propoxycarbazone-sodium labels. This proposed interim decision does not include an endangered species determination, or any human health or environmental safety findings associated with the EDSP. The Agency's final registration review decision is dependent upon the assessment of risks to threatened and endangered species, potential endocrine disruptor risk, and an assessment of risks to bees.

Sodium acifluorfen is an herbicide that is registered for control of broadleaf weeds in soybean, peanuts, rice, and strawberry. EPA conducted a comprehensive human health risk assessment, which indicated that there are no risks of concern for human health. The ecological risk assessment indicated that there are potential risks of concern for non-target terrestrial plant species from the aerial use of sodium acifluorfen. To reduce risk to non-target terrestrial plants from aerial spray drift, the Agency is proposing the deletion of aerial use on strawberries and the implementation of uniform spray drift management language across all labels. The Agency is also proposing the inclusion of herbicide resistance management language on all sodium acifluorfen labels. This proposed interim decision does not include an endangered species determination, or any human health or environmental safety findings associated with the EDSP. The Agency's final registration review decision is dependent upon a finding under ESA, an EDSP determination, and an assessment of risks to bees.

Thidiazuron is a plant growth regulator applied as a pre-harvest defoliant to cotton in southern states such as Mississippi, Texas, and Georgia. Thidiazuron reduces foliage, dry leaves, and immature fruiting structures, at the time of harvest, which contribute to the staining of harvested cotton. Quantitative human health and ecological risk assessments, including a screening-level endangered species risk assessment, were conducted for thidiazuron. EPA did not identify any human health risks. EPA identified possible risk to non-target terrestrial plants from use of thidiazuron. In its proposed interim decision, EPA is proposing risk mitigation to reduce spray drift to non-target terrestrial plants. EPA is making no human health or environmental safety findings associated with the EDSP screening of thidiazuron, nor is it making an endangered species finding. EPA's registration review decision for thidiazuron will depend upon the result of an EDSP Federal Food, Drug, and Cosmetic Act section 408(p) determination, complete pollinator determination, and an endangered species determination.

The registration review docket for a pesticide generally includes earlier documents related to the registration review of the case. For example, the review opened with a Summary Document, containing a Preliminary Work Plan, for public comment. A Final Work Plan was placed in the docket following public comment on the initial docket. The documents in the docket describe EPA's rationales for conducting additional risk assessments for the registration review of the pesticides included in the Table in this unit, as well as the Agency's subsequent risk findings and consideration of possible risk mitigation measures. These proposed interim registration decisions are supported by the rationales included in those documents. Following public comment, the Agency will issue interim registration review decisions for products containing the pesticides listed in the Table in this unit.

The registration review program is being conducted under congressionally mandated time frames, and EPA recognizes the need both to make timely decisions and to involve the public. Section 3(g) of the Federal Insecticide, Fungicide, and Rodenticide Act (FIFRA) (7 U.S.C. 136a(g)) required EPA to establish by regulation procedures for reviewing pesticide registrations, originally with a goal of reviewing each pesticide's registration every 15 years to ensure that a pesticide continues to meet the FIFRA standard for registration. The Agency's final rule to implement this program was issued in August 2006 and became effective in October 2006, and appears at 40 CFR part 155, subpart C. The Pesticide Registration Improvement Act of 2003 (PRIA) was amended and extended in September 2007. FIFRA, as amended by PRIA in 2007, requires EPA to complete registration review decisions by October 1, 2022, for all pesticides registered as of October 1, 2007.

The registration review final rule at 40 CFR 155.58(a) provides for a minimum 60-day public comment period on all proposed interim registration review decisions. This comment period is intended to provide an opportunity for public input and a mechanism for initiating any necessary amendments to the proposed interim decision. All comments should be submitted using the methods in ADDRESSES, and must be received by EPA on or before the closing date. These comments will become part of the docket for the pesticides included in the Table in this unit. Comments received after the close of the comment period will be marked “late.” EPA is not required to consider these late comments.

The Agency will carefully consider all comments received by the closing date and will provide a “Response to Comments Memorandum” in the docket. The interim registration review decision will explain the effect that any comments had on the interim decision and provide the Agency's response to significant comments.

Background on the registration review program is provided at: http://www2.epa.gov/pesticide-reevaluation. Links to earlier documents related to the registration review of these pesticides are provided at: http://www.epa.gov/oppsrrd1/registration_review/reg_review_status.htm.

Authority: 7 U.S.C. 136 et seq.

Dated: April 13, 2016.
Yu-Ting Guilaran,
Director, Pesticide Re-Evaluation Division, Office of Pesticide Programs.

[FR Doc. 2016-09289 Filed 4-20-16; 8:45 am]

BILLING CODE 6560-50-P